DEPARTMENT OF COMMERCE

International Trade Administration

[A-570-848]

Freshwater Crawfish Tail Meat From the People's Republic of China: Final Results of Antidumping Duty Administrative Review and New Shipper Review; 2011-2012

AGENCY: Enforcement and Compliance, International Trade Administration, Department of Commerce

SUMMARY: On October 3, 2013, the Department of Commerce (the Department) published in the Federal Register the preliminary results of the administrative review and new shipper review of the antidumping duty order on freshwater crawfish tail meat from the People's Republic of China (the PRC).¹ The period of review (POR) for the administrative review is September 1, 2011, through August 31, 2012, and the POR for the new shipper review is September 1, 2011 through September 30, 2012. These reviews cover four producers/exporters of subject merchandise: Nanjing Gemsen International Co., Ltd. (Nanjing Gemsen), Xiping Opeck Food Co., Ltd. (Xiping Opeck), Yancheng Hi-King Agriculture Developing Co., Ltd. (Yancheng Hi-King), and Deyan Aquatic Products and Food Co., Ltd. (Deyan Aquatic, the new shipper). We invited parties to comment on the Preliminary Results. Based on our analysis of the comments received, we made a change to our margin calculations. However, for the final results, we continue to find that the companies covered by these reviews did not make sales of subject merchandise at less than normal value.

¹ See Freshwater Crawfish Tail Meat From the People's Republic of China: Preliminary Results of Antidumping Duty Administrative Review and New Shipper Review; 2011-2012, 78 FR 61331 (October 3, 2013) (Preliminary Results). Also, on February 12, 2013, in accordance with 19 CFR 351.214(j)(3), the Department aligned the new shipper review with the administrative review. See Memorandum to the File from Dustin Ross, Case Analyst, “Alignment of New Shipper Review of Freshwater Crawfish Tail Meat from the People's Republic of China with the concurrent administrative review of Freshwater Crawfish Tail Meat from the People's Republic of China” dated February 12, 2013.

DATES: Effective Date: April 25, 2014.

FOR FURTHER INFORMATION CONTACT: Sandra Dreisonstok or Minoo Hatten, AD/CVD Operations, Office I, Enforcement and Compliance, International Trade Administration, U.S. Department of Commerce, 14th Street and Constitution Avenue NW., Washington, DC 20230; telephone: (202) 482-0768 or (202) 482-1690, respectively.

SUPPLEMENTARY INFORMATION:

Background

On October 3, 2013, the Department published the Preliminary Results of these reviews. On January 24, 2014, we issued a memorandum extending the time limit for the final results of these reviews to April 21, 2014.²

² See Memorandum to Christian Marsh, Deputy Assistant Secretary for Antidumping and Countervailing Duty Operations, “Freshwater Crawfish Tail Meat from the People's Republic of China: Extension of Time Limit for Final Results of Antidumping Duty Administrative Review and New Shipper Review; 2011-2012” dated January 24, 2014.

The Department gave interested parties an opportunity to comment on the Preliminary Results. We received a case brief from the petitioner, Crawfish Processors Alliance (CPA) on January 14, 2014, and rebuttal briefs from Xiping Opeck on January 21, 2014, and from Deyan Aquatic and Yancheng Hi-King on January 22, 2014.

We conducted these reviews in accordance with sections 751(a)(1)(B) and 751(a)(2)(B) of the Tariff Act of 1930, as amended (the Act).

Scope of the Order

The merchandise subject to the antidumping duty order is freshwater crawfish tail meat, which is currently classified in the Harmonized Tariff Schedule of the United States (HTSUS) under subheadings 1605.40.10.10, 1605.40.10.90, 0306.19.00.10, and 0306.29.00.00. On February 10, 2012, the Department added HTSUS classification number 0306.29.01.00 to the scope description pursuant to a request by U.S. Customs and Border Protection (CBP). The HTSUS numbers are provided for convenience and customs purposes only. The written description of the scope is dispositive. A full description of the scope of the order is contained in the Issues and Decision Memorandum,³ which is hereby adopted by this notice.

³ See Memorandum to Paul Piquado, Assistant Secretary for Enforcement and Compliance, from James Maeder, Director, Office II, Antidumping and Countervailing Duty Operations, “Issues and Decision Memorandum for the Final Results of Antidumping Duty Administrative Review and New Shipper Review of Freshwater Crawfish Tail Meat from the People's Republic of China” dated concurrently with and hereby adopted by this notice (Issues and Decision Memorandum).

Analysis of Comments Received

All issues raised in the case briefs by parties to these reviews are addressed in the Issues and Decision Memorandum. A list of the issues raised is attached to this notice as an appendix. The Issues and Decision Memorandum is a public document and is on file electronically via Enforcement and Compliance's Antidumping and Countervailing Duty Centralized Electronic Service System (IA ACCESS). Access to IA ACCESS is available to registered users at http://iaaccess.trade.gov and is available to all parties in the Central Records Unit, room 7046 of the main Department of Commerce building. In addition, a complete version of the Issues and Decision Memorandum can be accessed directly on the Enforcement and Compliance Web site at http://enforcement.trade.gov/frn/index.html. The signed Issues and Decision Memorandum and the electronic versions of the Issues and Decision Memorandum are identical in content.

Final Determination of No Shipments

For these final results, we continue to find that China Kingdom (Beijing) Import & Export Co., Ltd. (China Kingdom), Shanghai Ocean Flavor International Trading Co., Ltd. (Shanghai Ocean Flavor), and Xuzhou Jinjiang Foodstuffs Co., Ltd. (Xuzhou Jinjiang), which have separate rates, had no shipments during the POR.⁴ Consistent with the Department's refinement to its assessment practice in NME cases regarding no shipment claims, we are completing the administrative review with respect to China Kingdom, Shanghai Ocean Flavor, and Xuzhou Jinjiang, and will issue appropriate instructions to CBP based on the final results of the administrative review.⁵

⁴ See Preliminary Results.

⁵ See Non-Market Economy Antidumping Proceedings: Assessment of Antidumping Duties, 76 FR 65694 (October 24, 2011) and the “Assessment Rates” section below.

Changes Since the Preliminary Results

Based on our analysis of comments received, we made a change to our calculations for these final results. Specifically, we altered our method of valuing crawfish shell from the Preliminary Results. For further details, see the company-specific analysis memoranda dated concurrently with this notice and the Issues and Decision Memorandum.

Final Results of the Review

For the final result of the administrative review, we determine that the following percentage weighted-average dumping margins exist for the period September 1, 2011, through August 31, 2012:

Company | Margin (percent)
Nanjing Gemsen International Co., Ltd | 0.00
Xiping Opeck Food Co., Ltd | 0.00
Yancheng Hi-King Agriculture Developing Co., Ltd ⁶ | 0.00

⁶ For these final results, we continue to find that Yancheng Hi-King and its affiliates, Yancheng Seastar Seafood Co., Ltd., Wuhan Hi-King Agriculture Development Co., Ltd., Yancheng Hi-King Frozen Food Co., Ltd., Jiangxi Hi-King Poyang Lake Seafood Co., Ltd., and Yancheng Hi-King Aquatic Growing Co., Ltd., are a single entity for the purpose of calculating an antidumping duty margin. See Issues and Decision Memorandum.

For the result of the new shipper review, the Department determines that a dumping margin of 0.00 percent exists for merchandise produced and exported by Deyan Aquatic Products and Food Co., Ltd. covering the period September 1, 2011, through September 30, 2012.

Assessment

The Department will determine, and CBP shall assess, antidumping duties on all appropriate entries covered by these reviews.⁷ We intend to issue assessment instructions to CBP 15 days after the date of publication of these final results of reviews. For Nanjing Gemsen, Xiping Opeck, Yancheng Hi-King, and Deyan Aquatic we will instruct CBP to liquidate all entries during the respective PORs without regard to antidumping duties because their weighted-average dumping margins in these final results are zero.⁸

⁷ See 19 CFR 351.212(b)(1).

⁸ See Antidumping Proceeding: Calculation of the Weighted-Average Dumping Margin and Assessment Rate in Certain Antidumping Duty Proceedings; Final Modification, 77 FR 8101 (February 14, 2012).

Pursuant to the Department's refinement to its assessment practice in NME cases,⁹ for entries that were not reported in the U.S. sales databases submitted by companies individually examined during this review, the Department will instruct CBP to liquidate such entries at the PRC-wide rate. In addition, if the Department determines that an exporter under review had no shipments of the subject merchandise, any suspended entries that entered under that exporter's case number (i.e., at that exporter's rate) will be liquidated at the PRC-wide rate.

⁹ See Non-Market Economy Antidumping Proceedings: Assessment of Antidumping Duties, 76 FR 65694 (October 24, 2011).

Cash Deposit Requirements

The following cash deposit requirements will be effective upon publication of the final results of the administrative review for all shipments of the subject merchandise entered, or withdrawn from warehouse, for consumption on or after the publication date as provided by section 751(a)(2)(C) of the Act: (1) For subject merchandise exported by the companies listed above that have separate rates, the cash deposit rate will be the rate established in the final results of the administrative review for each exporter as listed above, except if the rate is zero or de minimis, then no cash deposit will be required for that exporter; (2) for previously investigated companies not listed above that have separate rates, the cash deposit rate will continue to be the company-specific rate published for the investigation; (3) for all other PRC exporters of subject merchandise which have not been found to be entitled to a separate rate, the cash deposit rate will be the PRC-wide rate of 223.01 percent; and (4) for all non-PRC exporters of subject merchandise which have not received their own rate, the cash deposit rate will be the rate applicable to the PRC entity that supplied that non-PRC exporter.

With respect to Deyan Aquatic, the respondent in the new shipper review, the Department established a combination cash deposit rate for this company consistent with its practice as follows: (1) For subject merchandise produced and exported by Deyan Aquatic, the cash deposit rate will be the rate established for Deyan Aquatic in the final results of the new shipper review; (2) for subject merchandise exported by Deyan Aquatic, but not produced by Deyan Aquatic, the cash deposit rate will be the rate for the PRC-wide entity; and (3) for subject merchandise produced by Deyan Aquatic but not exported by Deyan Aquatic, the cash deposit rate will be the rate applicable to the exporter.

These deposit requirements, when imposed, shall remain in effect until further notice.

Disclosure

We intend to disclose the calculations performed regarding these final results within five days of the date of publication of this notice in accordance with 19 CFR 351.224(b).

Notifications

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

These final results of reviews are issued and published in accordance with sections 751(a)(1), 751(a)(2)(B)(iv), 751(a)(3), 777(i) of the Act and 19 CFR 351.213(h), 351.214 and 351.221(b)(4).

Dated: April 21, 2014.
Paul Piquado,
Assistant Secretary for Enforcement and Compliance.

Appendix

List of Topics Discussed in the Issues and Decision Memorandum:

A. Summary

B. Background

C. Surrogate Country

D. Affiliation

E. Separate Rates

F. Discussion of the Issue

1. Selection of Surrogate Value for Crawfish Shell

G. Recommendation

[FR Doc. 2014-09479 Filed 4-24-14; 8:45 am]

BILLING CODE 3510-DS-P